DEPARTMENT OF COMMERCE

International Trade Administration

[A-580-809, A-580-870, A-580-876, A-580-897]

Circular Welded Non-Alloy Steel Pipe From the Republic of Korea; Oil Country Tubular Goods From the Republic of Korea; Welded Line Pipe From the Republic of Korea; and Large Diameter Welded Pipe From the Republic of Korea: Notice of Initiation of Antidumping Duty Changed Circumstances Reviews

AGENCY: Enforcement and Compliance, International Trade Administration, Department of Commerce.

SUMMARY: The U.S. Department of Commerce (Commerce) is initiating a changed circumstances review (CCR) to determine whether Hyundai Steel Pipe Co., Ltd. (HSP) is the successor-in-interest to Hyundai Steel Company (Hyundai Steel) in the context of the antidumping duty (AD) orders on circular welded non-alloy steel pipe (CWP); oil country tubular goods (OCTG); welded line pipe (WLP); and large diameter welded pipe (LDWP) from the Republic of Korea (Korea).

DATES: Applicable April 25, 2024.

FOR FURTHER INFORMATION CONTACT: Erin Kearney, AD/CVD Operations, Office VI, Enforcement and Compliance, International Trade Administration, U.S. Department of Commerce, 1401 Constitution Avenue NW, Washington, DC 20230; (202) 482-0167.

SUPPLEMENTARY INFORMATION:

Background

On November 2, 1992, September 10, 2014, December 1, 2015, and May 2, 2019, respectively, Commerce published in the Federal Register AD orders on CWP, OCTG, WLP, and LDWP from Korea.¹ On March 11, 2024, HSP requested that, pursuant to section 751(b)(1) of the Tariff Act of 1930, as amended (the Act), 19 CFR 351.216, and 19 CFR 351.221(c)(3), Commerce conduct an expedited CCR to determine that HSP is the successor-in-interest to Hyundai Steel and accordingly to assign it the cash deposit rates currently applicable to Hyundai Steel pursuant to CWP Order, OCTG Order, WLP Order, and LDWP Order.² In its submission, HSP stated that on April 1, 2021, Hyundai Steel restructured to organize its internal departmental units on the basis of product type through the end of 2023. HSP stated that on September 26, 2023, Hyundai Steel's board of directors approved a plan to spin off its Steel Pipe Business Division into an independent operating company named Hyundai Steel Pipe Co., Ltd (HSP). HSP stated that, on October 25, 2023, Hyundai Steel's board of directors approved a resolution to transfer its assets and liabilities to HSP.³

¹ See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (CWP Order); Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (OCTG Order); Welded Line Pipe from the Republic of Korea and the Republic of Turkey: Antidumping Duty Orders, 80 FR 75056 (December 1, 2015) (WLP Order); and Large Diameter Welded Pipe from the Republic of Korea: Amended Final Affirmative Antidumping Determination and Antidumping Duty Order, 84 FR 18767 (May 2, 2019) (LDWP Order) (collectively, Orders).

² See HSP's Letter, “Hyundai Steel Pipe Request for Changed Circumstances Review,” dated March 11, 2024 (HSP's CCR Request).

³ Id.

Scope of the Orders

The merchandise covered by these orders is CWP, OCTG, WLP, and LDWP from Korea.⁴

⁴ For a complete description of the scope of each of these orders, see CWP Order, OCTG Order, WLP Order, and LDWP Order.

Initiation of CCRs

Pursuant to section 751(b)(1)(A) of the Act and 19 CFR 351.216(d), Commerce conducts a CCR upon receipt of information concerning, or a request from, an interested party for a review of an AD and/or CVD order which shows changed circumstances sufficient to warrant a review of the order. The information submitted by HSP regarding its claim that it is the successor-in-interest to Hyundai Steel demonstrates changed circumstances sufficient to warrant the initiation of such reviews.⁵ Therefore, in accordance with section 751(b)(1)(A) of the Act and 19 CFR 351.216(d) and (e), we are initiating the CCRs.

⁵ See HSP's CCR Request.

In making a successor-in-interest determination, Commerce examines several factors, including, but not limited to, changes in the following: (1) management; (2) production facilities; (3) supplier relationships; and (4) customer base.⁶ While no single factor or combination of factors will necessarily provide a dispositive indication of a successor-in-interest relationship, generally, Commerce will consider the new company to be the successor to the previous company if the new company's resulting operation is not materially dissimilar to that of its predecessor.⁷ Thus, if the record evidence demonstrates that, with respect to the production and sale of the subject merchandise, the new company operates as the same business entity as the predecessor company, Commerce may assign the new company the cash deposit rate of its predecessor.⁸

⁶ See, e.g., Certain Frozen Warmwater Shrimp from India: Initiation and Preliminary Results of Antidumping Duty Changed Circumstances Review, 81 FR 75376 (October 31, 2016) (Shrimp from India Preliminary Results), unchanged in Certain Frozen Warmwater Shrimp from India: Notice of Final Results of Antidumping Duty Changed Circumstances Review, 81 FR 90774 (December 15, 2016) (Shrimp from India Final Results).

⁷ See, e.g., Shrimp from India Preliminary Results, 81 FR at 75377, unchanged in Shrimp from India Final Results, 81 FR at 90774.

⁸ Id.; see also Notice of Final Results of Changed Circumstances Antidumping Duty Administrative Review: Polychloroprene Rubber from Japan, 67 FR 58, 59 (January 2, 2002); Ball Bearings and Parts Thereof from France: Final Results of Changed-Circumstances Review, 75 FR 34688, 34689 (June 18, 2010); and Circular Welded Non-Alloy Steel Pipe from the Republic of Korea; Preliminary Results of Antidumping Duty Changed Circumstances Review, 63 FR 14679 (March 26, 1998), unchanged in Circular Welded Non-Alloy Steel Pipe from Korea; Final Results of Antidumping Duty Changed Circumstances Review, 63 FR 20572 (April 27, 1998), in which Commerce found that a company which only changed its name and did not change its operations is a successor-in-interest to the company before it changed its name.

Pursuant to 19 CFR 351.221(c)(3)(ii), Commerce may combine the notices of initiation and preliminary results of a CCR into a single notice if it concludes that expedited action is warranted. We have determined that it is appropriate to further consider, and potentially seek additional information regarding, certain factors noted above that Commerce examines in successor-in-interest CCRs. Therefore, we have determined that expedited action is not warranted, and we have not combined the notice of preliminary results of the CCRs with this notice. Commerce intends to publish in the Federal Register a notice of the preliminary results of this CCR, in accordance with 19 CFR 351.221(b)(4) and (c)(3)(i), which will set forth Commerce's preliminary factual and legal conclusions. Pursuant to 19 CFR 351.221(b)(4)(ii), interested parties will have an opportunity to comment on the preliminary results.

Unless extended, Commerce intends to issue the final results of this CCR within 270 days after the date of initiation, in accordance with 19 CFR 351.216(e).

Notification to Interested Parties

We are issuing this notice in accordance with sections 751(b)(1) and 777(i) of the Act and 19 CFR 351.216(b) and 351.221(b)(1).

Dated: April 19, 2024.
Ryan Majerus,
Deputy Assistant Secretary for Policy & Negotiations, performing the non-exclusive functions and duties of the Assistant Secretary for Enforcement and Compliance.

[FR Doc. 2024-08894 Filed 4-24-24; 8:45 am]

BILLING CODE 3510-DS-P